DEPARTMENT OF ENERGY

Federal Energy Regulatory Commission

[Docket No. ER16-1649-000]

California Independent System, Operator Corporation; Supplemental Notice of Agenda and Discussion Topics for Staff Technical Conference

This notice establishes the agenda and topics for discussion at the technical conference to be held on September 16, 2016 to discuss issues related to the measures implemented by the California Independent System Operator Corporation (CAISO) to address the limited availability of the Aliso Canyon natural gas storage facility.¹ The technical conference will be held from 10:00 a.m. to 4:00 p.m. (EDT) in the Commission Meeting Room at the Commission's headquarters, 888 First Street NE., Washington, DC. The technical conference will be led by Commission staff. All interested parties are invited to attend, and registration is not required.

¹ Cal. Indep. Sys. Operator Corp., 155 FERC ¶ 61,224 (2016) (June 1 Order).

The purpose of the technical conference is to provide Commission staff and interested parties an opportunity to discuss lessons learned regarding the efficacy of and the need for retention of any of the instant tariff revisions accepted by the Commission in the June 1 Order as well as potential longer-term solutions to address any ongoing limitations at the Aliso Canyon facility. The topics and related questions to be discussed during this conference are attached. No formal presentations will be made other than an opening presentation by CAISO and its Department of Market Monitoring; however, attendees will be encouraged to participate in the discussion along with Commission staff, time permitting. Attendees may also submit questions or potential discussion topics in the docket prior to the technical conference. Any such submissions should be made no later than one week prior to the conference and will be for discussion purposes only, time permitting.

This conference will be transcribed and webcast. Transcripts will be available immediately for a fee from Ace Reporting Company ((202) 347-3700). A link to the webcast of this event will be available in the Commission Calendar of Events at www.ferc.gov. The Capitol Connection provides technical support for the webcasts and offers the option of listening to the conferences via phone-bridge for a fee. For additional information, visit www.CapitolConnection.org or call (703) 993-3100. Parties attending the conference via webcast will have the opportunity to submit questions during the conference via email Virginia Castro at virginia.castro@ferc.gov.

FERC conferences are accessible under section 508 of the Rehabilitation Act of 1973. For accessibility accommodations please send an email to accessibility@ferc.gov or call toll free 1-866-208-3372 (voice) or 202-502-8659 (TTY), or send a fax to 202-208-2106 with the required accommodations.

For more information on this conference, please contact Virginia Castro at (202) 502-8491, virginia.castro@ferc.gov, or Sarah McKinley at (202) 502-8368, sarah.mckinley@ferc.gov.

Dated: August 17, 2016.
Kimberly D. Bose,
Secretary.

[FR Doc. 2016-20277 Filed 8-23-16; 8:45 am]

BILLING CODE 6717-01-P